COMMODITY FUTURES TRADING COMMISSION

Sunshine Act Meetings

Time and Date: 11 a.m., Friday, September 14, 2007.

Place: 1155 21st St., NW., Washington, DC, 9th Floor Commission Conference Room.

Status: Closed.

Matters To Be Considered: Surveillance matters.

Contact Person for More Information: David A. Stawick, 202-418-5100.

David A. Stawick,
Secretary of the Commission.

[FR Doc. 07-4094 Filed 8-16-07; 1:43 pm]

BILLING CODE 6351-01-M